NUCLEAR REGULATORY COMMISSION

[Docket No. 40-1162; NRC-2021-0120]

Split Rock, Wyoming Uranium Mill Tailings Radiation Control Act Title II Disposal Site; Jeffrey City, Wyoming

AGENCY: Nuclear Regulatory Commission.

ACTION: Environmental assessment and finding of no significant impact; issuance.

SUMMARY: The U.S. Nuclear Regulatory Commission (NRC) reviewed a Long-Term Surveillance Plan (LTSP) for the Split Rock, Wyoming Uranium Mill Tailings Radiation Control Act (UMTRCA) Title II Disposal Site, Jeffrey City, Wyoming submitted by the U.S. Department of Energy (DOE), by letter dated April 29, 2020. The NRC staff prepared an environmental assessment (EA) for this LTSP in accordance with its regulations. Based on the EA, the NRC concluded that a finding of no significant impact (FONSI) is appropriate. The NRC is also conducting a safety evaluation of the proposed license transfer.

DATES: The EA and FONSI referenced in this document are available on October 30, 2023.

ADDRESSES: Please refer to Docket ID NRC-2021-0120 when contacting the NRC about the availability of information regarding this document. You may obtain publicly available information related to this document using any of the following methods:

• Federal Rulemaking Website: Go to https://www.regulations.gov and search for Docket ID NRC-2021-0120. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced in this document (if that document is available in ADAMS) is provided the first time that a document is referenced.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Jill Caverly, Office of Nuclear Material Safety and Safeguards, U.S. Nuclear Regulatory Commission, Washington, DC 20555-0001; telephone: 301-415-7674, email: Jill.Caverly@nrc.gov.

SUPPLEMENTARY INFORMATION:

I. Introduction

The NRC is evaluating the LTSP for the Split Rock, Wyoming UMTRCA Title II Disposal Site submitted by the DOE for the long-term care and custodianship of the former uranium mill tailings site. The DOE submitted its request by letter dated April 29, 2020, (ADAMS Accession No. ML20121A280) and amended on August 11, 2023 (ADAMS Package Accession No. ML23223A152). The LTSP demonstrates the DOE responsibilities as the long-term custodian of the site, fulfilling its requirements associated with the general license under part 40 of title 10 of the Code of Federal Regulations (10 CFR), “Domestic Licensing of Source Material.”

In accordance with 10 CFR part 51, “Environmental Protection Regulations for Domestic Licensing and Related Regulatory Functions,” which implements the National Environmental Policy Act of 1969 as amended, the NRC staff's environmental review of the LTSP is documented in its EA (ADAMS Accession No. ML23236A452). The purpose of the EA is to assess the potential environmental impacts of the activities included in the long-term care of the Split Rock, Wyoming UMTRCA Title II disposal site. The NRC is also conducting a safety evaluation of the LTSP, which will be documented in a separate technical evaluation report (TER).

The long-term surveillance and maintenance program presented in the LTSP entails performing the following activities at the site: annual site inspection and reporting, annual ground water and surface water monitoring and reporting, and minor maintenance. The NRC will approve transfer of the site to DOE under the general licensing authority of 10 CFR part 40, following publication of the FONSI in the Federal Register, the EA, and the TER.

II. Final Environmental Assessment Summary

The Split Rock, Wyoming UMTRCA Title II disposal site is currently under a specific license with Western Nuclear Inc. (WNI) for the possession and storage of source or byproduct material from processing and extraction activities associated with uranium milling and as defined in 10 CFR part 40. Past activities include disposal, decommissioning, and reclamation activities at the site. Once those activities are complete, the license must be transferred to the long-term custodian under a general license. Under the UMTRCA Title II, a general license is issued for the custody and long-term care, including monitoring, maintenance, emergency measures necessary to protect the public health and safety, and other actions necessary to comply with site closure under Title II of UMTRCA. The long-term custodian will be the DOE.

The purpose of the LTSP is to establish the parameters of the long-term custodian's maintenance and surveillance of the site, consistent with 10 CFR 40.28, to demonstrate and ensure that uranium and thorium mill tailings disposal sites will be cared for in a manner that protects the public health, safety, and environment after closure. The DOE proposed an LTSP for the Split Rock, Wyoming UMTRCA Title II disposal site and requested NRC review and approval. The NRC considered the proposed action and the no-action alternative of denying the LTSP and transfer of the site to a general license. The results of the NRC's environmental review can be found in the final EA (ADAMS Accession No. ML23236A452). The NRC staff performed its environmental review in accordance with the requirements in 10 CFR part 51. In conducting the environmental review, the NRC contacted the Wyoming State Historic Preservation office (ADAMS Accession No. ML21056A423), and seventeen Native American Tribes (ADAMS Accession No. ML20329A081) and ran a query using the U.S. Fish and Wildlife Service's Information for Planning and Consultation database (ADAMS Accession No. ML21047A315).

If the NRC approves the LTSP and concurs with Wyoming's termination of WNI's radioactive material license (WYSUA-56), the site will be transferred to an NRC general license for long-term custody (10 CFR 40.28(b)). Concurrent with this action, the WNI's deed and title to the site within the long-term site boundary will be transferred to the DOE. The remaining balance of the property is federally owned or privately held and under institutional control restrictions. Disposal structures (i.e., the disposal cell and its associated surface water diversion structures) are designed to last “for up to 1,000 years, to the extent reasonably achievable, and, in any case, for at least 200 years” (10 CFR part 40, appendix A, “Criteria Relating to the Operation of Uranium Mills and the Disposition of Tailings or Wastes Produced by the Extraction or Concentration of Source Material from Ores Processed Primarily for Their Source Material Content,” Criterion 6), in addition, there is no termination of the general license for the DOE's long-term custody of the site (10 CFR 40.28(b)). Representatives of the NRC must be guaranteed permanent right-of-entry for periodic site inspections. Perpetual access to the site is gained by a local county road.

To meet the NRC's license requirements at 10 CFR 40.28 and 10 CFR part 40, appendix A, criterion 12, the DOE as long-term custodian must, at a minimum, fulfill the following requirements:

• annual site inspection,

• annual inspection report,

• follow-up inspections and reports, as necessary,

• site maintenance, as necessary,

• emergency measures, and,

• environmental monitoring.

III. Finding of No Significant Impact

Based on its review of the proposed action in the EA, in accordance with the requirements of 10 CFR part 51, the NRC staff determined that approval of the LTSP for the Split Rock, Wyoming UMTRCA Title II disposal site authorizing long-term surveillance activities, will not significantly affect the quality of the human environment. The proposed action would not result in any new construction or expansion of the existing footprint beyond the area previously disturbed and approved. No significant radiological or nonradiological impacts are expected from the long-term surveillance and maintenance. The proposed action will not affect potentially eligible historic properties if any are present. Therefore, the NRC staff determined that pursuant to 10 CFR 51.31, preparation of an environmental impact statement is not required for the proposed action, and pursuant to 10 CFR 51.32, a FONSI is appropriate.

Dated: October 24, 2023.
For the Nuclear Regulatory Commission.
John M. Moses,
Deputy Director, Division of Rulemaking, Environmental, and Financial Support, Office of Nuclear Material Safety, and Safeguards.

[FR Doc. 2023-23806 Filed 10-27-23; 8:45 am]

BILLING CODE 7590-01-P